DEPARTMENT OF HOUSING AND URBAN DEVELOPMENT

[Docket No. FR-4966-N-03]

The Performance Review Board; Notice of Appointment

AGENCY: Office of the Deputy Secretary, HUD.

ACTION: Notice of appointment.

SUMMARY: The Department of Housing and Urban Development announces the appointment of Keith A. Nelson as Vice Chairperson of the Departmental Performance Review Board. The address is: Department of Housing and Urban Development, Washington, DC 20410-3000.

FOR FURTHER INFORMATION CONTACT: Persons desiring any further information about the Performance Review Board and its members may contact Earnestine Pruitt, Director, Executive Personnel Management Division, Department of Housing and Urban Development, Washington, DC 20410-3000, telephone (202) 708-1381. (This is not a toll-free number.)

Dated: October 20, 2005.
Roy A. Bernardi,
Deputy Secretary.

[FR Doc. E5-5988 Filed 10-28-05; 8:45 am]

BILLING CODE 4210-27-P